DEPARTMENT OF TRANSPORTATION

Surface Transportation Board

[STB Finance Docket No. 33920]

Big Eagle Rail, LLC—Lease and Operation Exemption—Kanawha Rail Corp.

Big Eagle Rail, LLC, a noncarrier, has filed a verified notice of exemption under 49 CFR 1150.31 to lease from Kanawha Rail Corp. and operate rail trackage located in Kanawha County, WV, together with other associated rail properties (trackage). The trackage extends from its northern terminus at an interchange with CSX Transportation, Inc., at CSX Station 670+30, south along Fields Creek, in Cabin Creek District, for approximately 6.47 miles, to its southern terminus.

The parties reported that they intended to consummate the transaction promptly upon the effective date of the exemption. The earliest the transaction could have been consummated was September 1, 2000, 7 days after the exemption was filed.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33920, must be filed with the Surface Transportation Board, Office of the Secretary, Case Control Unit, 1925 K Street, N.W., Washington, DC 20423-0001. In addition, a copy of each pleading must be served on Kelvin J. Dowd, Esq., Slover & Loftus, 1224 Seventeenth Street, N.W., Washington, DC 20036.

Board decisions and notices are available on our website at “WWW.STB.DOT.GOV.”

Decided: September 7, 2000.
By the Board, David M. Konschnik, Director, Office of Proceedings.
Vernon A. Williams,
Secretary.

[FR Doc. 00-23662 Filed 9-14-00; 8:45 am]

BILLING CODE 4915-00-P